FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201335.

Agreement Name: Crowley/Seaboard Trinidad Space Charter Agreement.

Parties: Crowley Caribbean Services LLC and Seaboard Marine Ltd.

Filing Party: Wayne Rohde; Cozen O'Connor.

Synopsis: The Agreement authorizes Seaboard to charter space to Crowley in the trade between Miami, FL and Trinidad.

Proposed Effective Date: 4/26/2020.

Location: https://www2.fmc.gov/FMC.Agreements.Web/Public/AgreementHistory/27481.

Dated: March 13, 2020.
Rachel E. Dickon,
Secretary.

[FR Doc. 2020-05596 Filed 3-17-20; 8:45 am]

BILLING CODE 6731-AA-P